DEPARTMENT OF COMMERCE

National Oceanic and Atmospheric Administration

[I.D. 041106A]

Marine Mammals; File Nos. 781-1824, 965-1821, 532-1822, 540-1811, 774-1714, 782-1719, 731-1774

AGENCY: National Marine Fisheries Service (NMFS), National Oceanic and Atmospheric Administration (NOAA), Commerce.

ACTION: Notice; issuance of permits and amendments.

SUMMARY: Notice is hereby given that seven entities have been issued permits and amendments to conduct scientific research on marine mammal species and import marine mammal part specimens for scientific research purposes.

ADDRESSES: The permits and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Southwest Region, NMFS, 501 West Ocean Blvd., Suite 4200, Long Beach, CA 90802-4213; phone (562)980-4001; fax (562)980-4018; and

Alaska Region, NMFS, P.O. Box 21668, Juneau, AK 99802-1668; phone (907)586-7221; fax (907)586-7249.

FOR FURTHER INFORMATION CONTACT: Shane Guan or Kelsey Abbott, (301)713-2289.

SUPPLEMENTARY INFORMATION: Permits have been issued to the following entities:

Northwest Fisheries Science Center (NWFSC, Dr. M. Bradley Hanson, Principal Investigator), 2725 Montlake Blvd. East, Seattle, Washington 98112-2097 (Permit No. 781-1824);

Southwest Fisheries Science Center (SWFSC, Dr. Stephen B. Reilly, Principal Investigator), 8604 La Jolla Shores Drive, La Jolla, California 92037 (Permit No. 774-1714);

National Marine Mammal Laboratory, Alaska Fisheries Science Center (NMML, Dr. John L. Bengtson, Principal Investigator), 7600 Sand Point Way, NE., Seattle, Washington 98115-6349 (Permit No. 782-1719);

Dr. Robin W. Baird, Cascadia Research, 218 1/2 W. 4th Avenue, Olympia, Washington 98501 (Permit No. 731-1774);

Dr. David E. Bain, Friday Harbor Laboratories, University of Washington, 620 University Road, Friday Harbor, Washington 98250 (Permit No. 965-1821);

Center for Whale Research (CWR, Mr. Kenneth C. Balcomb III, Principal Investigator), 355 Smuggler's Cove Road, Friday Harbor, Washington 98250 (Permit No. 532-1822); and

Mr. John Calambokidis, Cascadia Research, Waterstreet Bldg., 218 1/2 W. 4th Avenue, Olympia, Washington 98501 (File No. 540-1811).

On January 6, 2006, notice was published in the Federal Register (71 FR 917) that requests for scientific research permits and amendments to take marine mammals had been submitted by the above-named organizations and individuals. The requested permits and amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 781-1824 authorizes the NWFSC to conduct research to determine the abundance, distribution, movement patterns, habitat use, contaminant levels, prey, behavior, energetics, and stock structure of cetacean species in the eastern North Pacific off the coast of Washington, Oregon, and California. These studies will be carried out through vessel surveys, photo-identification from large and small vessels, biological sample collection, passive acoustic monitoring, and satellite/radio and data log/time-depth tagging and tracking. The permit authorizes NWFSC to take endangered blue whales (Balaenoptera musculus), fin whales (Balaenoptera physalus), humpback whales (Megaptera novaeangliae), sperm whales (Physeter macrocephalus), and Southern Resident killer whales (SRKW, Orcinus orca), as well as 15 non-ESA-listed cetacean species. The permit expires on April 14, 2011.

Permit No. 965-1821 authorizes Dr. David Bain to study killer whales, including the SRKW DPS. Dr. Bain's research is designed to examine killer whale distribution and movement patterns; diet and energetic requirements; reproduction and mortality patterns; health; social structure; and the effects of anthropogenic disturbances, including noise, on the whales. Research will focus on the inland waters of Washington with comparative data collected from central California to central Alaska. The permit expires on April 14, 2011.

Permit No. 532-1822 issued to the CWR authorizes annual photo-identification studies on SRKW throughout their range to monitor population size and demographics, movements and distribution, social structure, and individual health and body condition of these animals. CWR will also collect photo-identification data from other killer whale stocks that are encountered opportunistically, including the Eastern North Pacific Offshore stock, Eastern North Pacific Northern Resident stock, and the Eastern North Pacific Transient stock. This permit expires April 14, 2011.

Permit No. 540-1811 authorizes John Calambokidis to study marine mammals in the North Pacific Ocean including the waters off California, Oregon, and Washington. Mr. Calambokidis will: (1) use photo-identification activities to determine the abundance, movements, and population structure of cetaceans; (2) collect skin biopsies to determine sex and relatedness, and to evaluate stock structure of cetaceans; (3) conduct suction cup tagging activities to examine the diving behavior, feeding, movements, and vocal behavior of cetacean species; (4) conduct aerial, vessel, and shore-based surveys to examine distribution, abundance, habitat, and feeding behavior; and (5) to recover dead harbor seals for contaminant analysis. The permit authorizes takes of five species of pinnipeds and 27 cetacean species, including humpback whales, blue whales, killer whales, fin whales, and gray whales (Eschrichtius robustus). The permit expires on April 14, 2011.

Permit No. 774-1714-04 issued to the SWFSC has been amended to allow takes of the recently ESA-listed SRKW DPS. The purpose of the research is to document the range of the SRKW within 300 nm of the California, Oregon, and Washington outer coasts, which are outside their relatively well studied distribution in inland and coastal waters. The research will be carried out opportunistically during SWFSC's line-transect surveys designed to provide data for Stock Assessment Reports on abundance and stock identity of all cetacean species in these areas. The permit expires on June 30, 2009.

Permit No. 782-1719-03 issued to the NMML has been amended to allow takes of SRKW. The amended permit authorizes NMML to opportunistically sample SRKW when encountered during stock assessment surveys. NMML may biopsy sample 10 SRKW (excluding calves and accompanying females) annually and may take up to 500 SRKW annually for photo-identification from vessel and aerial surveys and 500 SRKW annually by incidental harassment. The amended permit expires on June 30, 2009.

Permit No. 731-1774-01 issued to Dr. Robin Baird authorizes takes by close approach, including vessel approaches, aerial over-flights, and suction cup tagging of cetacean species in all U.S. and international waters in the Pacific, including Alaska, Washington, Oregon, California, Hawaii, and other U.S. territories. The permit now authorizes takes of SRKW by harassment during close approach for vessel and aerial surveys, photo-identification, behavioral observations, video and acoustic recordings, suction cup tagging, and incidental harassment. The research will primarily occur in the waters of Washington, but may also occur in the waters of California and Oregon. The amended permit expires on August 31, 2010.

In compliance with the National Environmental Policy Act of 1969 (42 U.S.C. 4321 et seq.), an environmental assessment was prepared analyzing the effects of the permitted activities. After a Finding of No Significant Impact, the determination was made that it was not necessary to prepare an environmental impact statement.

Issuance of these permits and amendments, as required by the ESA, was based on a finding that such permits/amendments: (1) were applied for in good faith; (2) will not operate to the disadvantage of such endangered species; and (3) are consistent with the purposes and policies set forth in section 2 of the ESA.

Dated: April 12, 2006.
Stephen L. Leathery,
Chief, Permits, Conservation and Education Division, Office of Protected Resources, National Marine Fisheries Service.

[FR Doc. E6-5779 Filed 4-17-06; 8:45 am]

BILLING CODE 3510-22-S